DEPARTMENT OF THE INTERIOR

Bureau of Land Management

[AK-029-02-1610-DO-082L]

Notice of Intent To Prepare Plan Amendments to the 1995 Fort Greely Resource Management Plan and 1995 Fort Wainwright Resource Management Plan and Associated Environmental Assessments (EAs)

AGENCY: Northern Field Office, Bureau of Land Management, Fairbanks, Alaska, Interior.

ACTION: Notice of intent to prepare plan amendments to the 1995 Fort Greely Resource Management Plan (RMP) and 1995 Fort Wainwright RMP and associated Environmental Assessments (EAs).

SUMMARY: This document provides notice that the Bureau of Land Management (BLM) intends to prepare two plan amendments with associated EAs. BLM will work closely with the U.S. Army, Alaska (USARAK) while developing the amendments. The amendments will encompass approximately 624,000 acres for Fort Greely and 248,000 acres for Fort Wainwright. The affected lands are on the Fort Greely military withdrawal near the town of Delta Junction, Alaska, and on the Fort Wainwright withdrawal near Fairbanks, Alaska. The amendments will fulfill the needs and obligations set forth by the National Environmental Policy Act, the Federal Land Policy and Management Act, and Pub. L. 106-65, BLM and USARAK management policies. The BLM will work closely with interested parties to identify the management decisions that are best suited to the needs of the public. This collaborative process will take into account local, regional, and national needs and concerns. This notice initiates the public scoping process to identify planning issues and to develop planning criteria.

DATES: The scoping comment period will commence with the publication of this notice. Formal scoping will end 60 days after publication of this notice. Comments on issues and planning criteria should be received on or before the end of the scoping period at the address listed below.

Public Participation: Two public meetings will be held during the scoping and preparation period. These meetings will be held in Fairbanks and Delta Junction, Alaska. Early participation by all those interested is encouraged. At least 15 days public notice will be given for activities where the public is invited to attend. Written comments will be accepted throughout the amendment process at the address shown below. Meetings will be announced through the local news media.

ADDRESSES: Written comments should be sent to Northern Field Office, Bureau of Land Management, 1150 University Avenue, Fairbanks, Alaska 99709-3844, attention Gary Foreman. Documents pertinent to these amendments may be examined at the Northern Field Office located in Fairbanks, Alaska. Comments, including names and street addresses of respondents, will be available for public review at the Northern Field Office during regular business hours 8 a.m. to 4:30 p.m., Monday through Friday, except holidays, and may be published as part of the EAs. Individual respondents may request confidentiality. If you wish BLM to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Gary Foreman, Telephone (907) 474-2339.

SUPPLEMENTARY INFORMATION: The RMPs for Fort Greely and Fort Wainwright were signed in 1995. Recently evaluations of the RMPs were performed and three issues were found that require amendments to the 1995 RMPs. These issues are: (1) The withdrawals have been extended for an additional 25 years; (2) Through their planning, USARAK is recommending some changes to vehicle access designations within the withdrawal areas; (3) BLM has drafted new land health standards and will implement them if they are approved in time for these amendments.

Additional issues to be addressed in these amendments can be submitted to the BLM by interested agencies, groups, and individuals throughout the planning process.

Robert W. Schneider,
Field Manager, Northern Field Office, Bureau of Land Management.

[FR Doc. 02-11440 Filed 5-7-02; 8:45 am]

BILLING CODE 4310-32-P